DEPARTMENT OF THE INTERIOR

National Park Service

National Register of Historic Places; Notification of Pending Nominations

Nominations for the following properties being considered for listing in the National Register were received by the National Park Service before February 28, 2004.

Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by April 5, 2004.

Patrick W. Andrus,
Acting, Keeper of the National Register of Historic Places.

Arizona

Coconino County

Fort Tuthill Historic District, AZ 89a and I-17, Flagstaff, 04000257.

Pima County

Fox Commercial Building, (Downtown Tucson, Arizona MPS), 27 W. Congress St., Tucson, 04000258.

San Clemente Historic District, Jct. of Alvernon and Broadway, Tucson, 04000256.

Colorado

Denver County

Montview Boulevard Presbyterian Church, 1980 Dahlia St., Denver, 04000262.

Logan County

Powell and Blair Stone Ranch, Approx. 1 mi. N of jct. of U.S. 138 and 65 Rd., Proctor, 04000261.

Montrose County

Benevolent and Protective Order of Elks Lodge, 107 S. Cascade Ave., Montrose, 04000260.

Montrose Masonic Temple, Lodge No. 63, 509-513 E. Main St., Montrose, 04000259.

Florida

Union County

King, John A., House, 105 SE 1st Ave., Lake Butler, 04000264.

Volusia County

Orange City Historic District, (Orange City, Florida MPS), Roughly Banana, Carpenter, French and Orange Aves., Orange City, 04000265.

Iowa

Polk County

Boyd, Byron and Ivan, House, 304 42nd St., Des Moines, 04000263.

Mississippi

Forrest County

West Sixth Street USO Building, 305 E. Sixth St., Hattiesburg, 04000267.

Montana

Missoula County

Missoula Mercantile Warehouse, (Missoula MPS), 221, 229 and 231 E. Front St., Missoula, 04000266.

Pennsylvania

Elk County

Grant, O.B., House, 610 W. Main St., Ridgway Township, 04000268.

Virginia

Richmond Independent City

Virginia Department of Highways Building, 1401 E. Broad St., Richmond (Independent City), 04000270.

Williams, Charlotte, Memorial Hospital, 1201 E. Broad St., Richmond (Independent City), 04000269.

Wisconsin

Milwaukee County

North Sherman Boulevard Historic District, N. Sherman Blvd. Roughly bounded by W. Keefe Ave. and W. Lisbon Ave., Milwaukee, 04000271.

A request for Removal has been made for the following resource:

Mississippi

Wayne County

Waynesboro Bridge, (Historic Bridges of Mississippi TR), Spans Chickasawhay River on Old U.S. 84, Waynesboro vicinity, 88002494.

[FR Doc. 04-6165 Filed 3-18-04; 8:45 am]

BILLING CODE 4312-51-U